SUSQUEHANNA RIVER BASIN COMMISSION

Public Hearing

AGENCY: Susquehanna River Basin Commission.

ACTION: Notice.

SUMMARY: The Susquehanna River Basin Commission will hold a public hearing on April 30, 2015, in Grantville, Pennsylvania. At this public hearing, the Commission will hear testimony on the projects listed in the Supplementary Information section of this notice. Such projects are intended to be scheduled for Commission action at its next business meeting, tentatively scheduled for June 4, 2015, which will be noticed separately. The Commission will also hear testimony on amending its Regulatory Program Fee Schedule. The public should take note that this public hearing will be the only opportunity to offer oral comment to the Commission for the listed projects. The deadline for the submission of written comments is May 11, 2015.

DATES: The public hearing will convene on April 30, 2015, at 7:00 p.m. The public hearing will end at 9:00 p.m. or at the conclusion of public testimony, whichever is sooner. The deadline for the submission of written comments is May 11, 2015.

ADDRESSES: The public hearing will be conducted at the Holiday Inn Harrisburg-Hershey, Grande 1 Room, 604 Station Road (Exit 80 off I-81), Grantville, Pa.

FOR FURTHER INFORMATION CONTACT: Jason Oyler, Regulatory Counsel, telephone: (717) 238-0423, ext. 1312; fax: (717) 238-2436.

Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover amendments to its Regulatory Program Fee Schedule, as posted on the SRBC Public Participation Center Web page at www.srbc.net/pubinfo/publicparticipation.htm. The public hearing will cover the following projects:

Projects Scheduled for Action

1. Project Sponsor and Facility: Anadarko E&P Onshore LLC (Pine Creek), McHenry Township, Lycoming County, Pa. Application for renewal of surface water withdrawal of up to 1.500 mgd (peak day) (Docket No. 20110601).

2. Project Sponsor and Facility: Carrizo (Marcellus), LLC (Meshoppen Creek), Washington Township, Wyoming County, Pa. Application for renewal of surface water withdrawal of up to 2.160 mgd (peak day) (Docket No. 20110603).

3. Project Sponsor and Facility: Carrizo (Marcellus), LLC (Unnamed Tributary to Middle Branch Wyalusing Creek), Forest Lake Township, Susquehanna County, Pa. Application for renewal of surface water withdrawal of up to 0.648 mgd (peak day) (Docket No. 20110605).

4. Project Sponsor and Facility: Chetremon Golf Course, LLC, Burnside Township, Clearfield County, Pa. Application for consumptive water use of up to 0.200 mgd (peak day).

5. Project Sponsor and Facility: Chetremon Golf Course, LLC (Irrigation Storage Pond), Burnside Township, Clearfield County, Pa. Application for surface water withdrawal of up to 0.200 mgd (peak day).

6. Project Sponsor and Facility: Chief Oil & Gas LLC (Loyalsock Creek), Forksville Borough, Sullivan County, Pa. Application for surface water withdrawal of up to 2.000 mgd (peak day).

7. Project Sponsor and Facility: Constitution Pipeline Company, LLC (Charlotte Creek), Town of Davenport, Delaware County, N.Y. Application for surface water withdrawal of up to 2.160 mgd (peak day).

8. Project Sponsor and Facility: Constitution Pipeline Company, LLC (Ouleout Creek), Town of Sidney, Delaware County, N.Y. Application for surface water withdrawal of up to 1.928 mgd (peak day).

9. Project Sponsor and Facility: Constitution Pipeline Company, LLC (Starrucca Creek), Harmony Township, Susquehanna County, Pa. Application for surface water withdrawal of up to 2.052 mgd (peak day).

10. Project Sponsor and Facility: Furman Foods, Inc., Point Township, Northumberland County, Pa. Modification to add a source to the consumptive water use approval (no increase requested in current consumptive water use quantity) (Docket No. 20130608).

11. Project Sponsor and Facility: Furman Foods, Inc., Point Township, Northumberland County, Pa. Application for groundwater withdrawal of up to 0.504 mgd (30-day average) from Well 10.

12. Project Sponsor and Facility: Hydro Recovery, LP, Blossburg Borough, Tioga County, Pa. Application for renewal of groundwater withdrawal of up to 0.216 mgd (30-day average) from Well HR-1 (Docket No. 20110612).

13. Project Sponsor and Facility: Hydro Recovery, LP, Blossburg Borough, Tioga County, Pa. Application for renewal of consumptive water use of up to 0.316 mgd (peak day) (Docket No. 20110612).

14. Project Sponsor and Facility: Keister Miller Investments, LLC (West Branch Susquehanna River), Mahaffey Borough, Clearfield County, Pa. Application for surface water withdrawal of up to 2.000 mgd (peak day).

15. Project Sponsor and Facility: Keystone Clearwater Solutions, LLC (Driftwood Branch Sinnemahoning Creek), Emporium Borough, Cameron County, Pa. Application for renewal of surface water withdrawal of up to 0.999 mgd (peak day) (Docket No. 20110614).

16. Project Sponsor and Facility: Keystone Clearwater Solutions, LLC (Lycoming Creek), Lewis Township, Lycoming County, Pa. Application for renewal of surface water withdrawal of up to 1.250 mgd (peak day) (Docket No. 20110616).

17. Project Sponsor and Facility: Millersville University of Pennsylvania, Millersville Borough, Lancaster County, Pa. Application for consumptive water use of up to 0.080 mgd (peak day).

18. Project Sponsor and Facility: Millersville University of Pennsylvania, Millersville Borough, Lancaster County, Pa. Application for groundwater withdrawal of up to 0.320 mgd (30-day average) from Well 1.

19. Project Sponsor and Facility: Nature's Way Purewater Systems, Inc., Dupont Borough, Luzerne County, Pa. Modification to increase consumptive water use by an additional 0.092 mgd (peak day), for a total of up to 0.349 mgd (peak day) (Docket No. 20110618).

20. Project Sponsor: Pennsylvania Department of Environmental Protection—South-central Regional Office, City of Harrisburg, Dauphin County, Pa. Facility Location: Leacock Township, Lancaster County, Pa. Application for groundwater withdrawal of up to 0.590 mgd (30-day average) from Stoltzfus Well.

21. Project Sponsor: Pennsylvania Department of Environmental Protection—South-central Regional Office, City of Harrisburg, Dauphin County, Pa. Facility Location: Leacock Township, Lancaster County, Pa. Application for groundwater withdrawal of up to 0.432 mgd (30-day average) from Township Well.

22. Project Sponsor and Facility: Shrewsbury Borough, York County, Pa. Application for renewal and modification to increase groundwater withdrawal by an additional 0.024 mgd (30-day average), for a total of up to 0.089 mgd (30-day average) from the Blouse Well (Docket No. 19820103).

23. Project Sponsor and Facility: Shrewsbury Borough, York County, Pa. Application for renewal of groundwater withdrawal of up to 0.099 mgd (30-day average) from the Smith Well (Docket No. 19811203).

24. Project Sponsor and Facility: Talisman Energy USA Inc. (Wappasening Creek), Windham Township, Bradford County, Pa. Application for renewal of surface water withdrawal of up to 1.000 mgd (peak day) (Docket No. 20110621).

25. Project Sponsor: UGI Development Company. Project Facility: Hunlock Creek Energy Center, Hunlock Township, Luzerne County, Pa. Modification to increase consumptive water use by an additional 1.526 mgd (peak day), for a total of up to 2.396 mgd (peak day) (Docket No. 20090916).

Request for Waiver of Application and Approval of Transfer

1. Augusta Water, Inc. request for waiver of application required by 18 CFR 806.6(d)(1) and transfer of Docket No. 20021014.

Opportunity To Appear and Comment

Interested parties may appear at the hearing to offer comments to the Commission on the amended fee schedule or any project listed above. The presiding officer reserves the right to limit oral statements in the interest of time and to otherwise control the course of the hearing. Ground rules will be posted on the Commission's Web site, www.srbc.net, prior to the hearing for review. The presiding officer reserves the right to modify or supplement such rules at the hearing. Written comments on any project listed above may also be mailed to Mr. Jason Oyler, Regulatory Counsel, Susquehanna River Basin Commission, 4423 North Front Street, Harrisburg, Pa. 17110-1788, or submitted electronically through www.srbc.net/pubinfo/publicparticipation.htm. Comments mailed or electronically submitted must be received by the Commission on or before May 11, 2015, to be considered.

Authority: Pub. L. 91-575, 84 Stat. 1509 et seq., 18 CFR parts 806, 807, and 808.

Dated: March 27, 2015.
Stephanie L. Richardson,
Secretary to the Commission.

[FR Doc. 2015-07668 Filed 4-2-15; 8:45 am]

BILLING CODE 7040-01- P